DEPARTMENT OF AGRICULTURE

Forest Service

White River National Forest; Summit County, CO; Breckenridge Ski Resort—Peak 6 Terrain Development Proposal

AGENCY: Forest Service, USDA.

ACTION: Notice of intent to prepare an environmental impact statement.

SUMMARY: The USDA Forest Service will prepare an Environmental Impact Statement (EIS) to disclose the anticipated environmental effects of the Breckenridge Ski Resort Peak 6 Terrain Development proposal. This proposal is designed to provide for an improved balance of services to meet the needs and expectations of guests.

DATES: Comments concerning the scope of the analysis must be received by February 17, 2008. The draft environmental impact statement is expected in November 2008 and the final environmental impact statement is expected in January 2009.

ADDRESSES: Send written comments to Maribeth Gustafson, Forest Supervisor, c/o Roger Poirier, Winter Sports Program Manager, White River National Forest, 900 Grand Avenue, Glenwood Springs, CO 81602-0948.

FOR FURTHER INFORMATION CONTACT: Shelly Grail—Snow Ranger, Dillon Ranger District, P.O. Box 620, Silverthorne, CO 80498, sgrail@fs.fed.us, or (970) 262-3484.

SUPPLEMENTARY INFORMATION: The proposed action addresses issues related to the quality of the recreational experience. Presently, alpine skiing/snowboarding and other resort activities are provided to the public through a Special Use Permit (SUP) issued by the White River National Forest. All elements of the proposal are within the existing SUP boundary area. The proposed improvements are consistent with the 2002 Revised White River National Forest Land and Resource Management Plan (Forest Plan).

Purpose and Need for Action

Given the current visitation rates, guest experiences, and terrain distribution concerns, the following needs are addressed by the proposed action:

1. Better accommodation of current daily visitation levels.

2. Reduced skier/rider congestion on BSR's existing Intermediate and Advanced Intermediate terrain network and associated lifts.

3. Reduced waiting time for lifts at BSR.

4. Efficient dispersal of Intermediate and Advanced Intermediate skiers/riders across the entire skiable terrain network.

5. Additional lift-served terrain to accommodate the existing terrain distribution deficit.

6. Additional hike-to access servicing advanced ability levels.

7. Sufficient infrastructure in pods to serve guests.

Proposed Action

All proposed projects are within Breckenridge Ski Resort's (BSR) existing SUP boundary. The proposed action includes:

• Developing terrain on Peak 6 that would encompass approximately 450 acres of traditional downhill and hike-to skiing accessed by a single lift.

• Installing a bottom-drive, high-speed, detachable, six-person lift to service the Peak 6 terrain with a slope length of 5,963 feet, a vertical rise of 1,537 and a design capacity of 3,000 people per hour.

• Constructing a food and beverage facility (including restrooms and associated infrastructure) at the bottom terminal of the proposed lift. The food and beverage facility would be approximately 1,800 square feet in size and seat approximately 150 guests.

• Constructing a ski patrol/warming hut at the proposed top terminal location on Peak 6.

• Rehabilitating and extending decommissioned roads within the South Barton timber sale patch cut areas to specific locations to gain access to Peak 6 for construction and future maintenance needs.

• Installing a power line to the proposed top terminal location in a corridor that minimizes impacts to environmentally sensitive areas.

Responsible Official

The responsible official is Maribeth Gustafson, Forest Supervisor for the White River National Forest, 900 Grand Ave., P.O. Box 948, Glenwood Springs, Colorado 81602. The responsible official will document the decision and reasons for the decision in a Record of Decision. That decision will be subject to appeal under 36 CFR part 215 or part 251.

Nature of Decision To Be Made

Based on the analysis that will be documented in the forthcoming EIS, the responsible official will decide whether or not to implement, in whole or in part, the proposed action or another alternative developed by the Forest Service.

Scoping Process

Public questions and comments regarding this proposal are an integral part of this environmental analysis process. Comments will be used to identify issues and develop alternatives to BSR's proposal. To assist the Forest Service in identifying and considering issues and concerns on the proposed action, comments should be as specific as possible. Input provided by interested and/or affected individuals, organizations and governmental agencies will be used to identify resource issues that will be analyzed in the Draft EIS. The Forest Service will identify significant issues raised during the scoping process, and use them to formulate alternatives, prescribe mitigation measures and project design features, or analyze environmental effects.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: January 8, 2008.
Maribeth Gustafson,
Forest Supervisor.

[FR Doc. E8-631 Filed 1-17-08; 8:45 am]

BILLING CODE 3410-11-P